DEPARTMENT OF HOMELAND SECURITY

Coast Guard

[Docket No. USCG-2019-0882]

BNSF Railway Bridge Across the Missouri River Between Bismarck and Mandan, North Dakota; Record of Decision

AGENCY: Coast Guard, DHS.

ACTION: Notice of availability for a Record of Decision.

SUMMARY: The Coast Guard announces the availability of a Record of Decision (ROD) for the replacement of the BNSF Railway Bridge across the Missouri River between Bismarck and Mandan, North Dakota. This was prepared in compliance with the National Environmental Policy Act (NEPA) of 1969, as amended, and Council on Environmental Quality implementing regulations. The ROD, which concludes the Environmental Impact Statement (EIS) process for the project, explains the Coast Guard's decision, describes the alternatives considered, and discusses the plans for mitigation and monitoring. The Coast Guard's decision is to approve the location and plans for the replacement of the BNSF Railway Bridge using the applicant's preferred alternative: Construct a new bridge with 200-foot spans and piers, 20 feet upstream of the existing bridge, and remove the existing bridge. The Coast Guard is making the ROD available to the public in the docket for this notice.

DATES: Brian Dunn, Chief, Coast Guard Office of Bridge Programs, signed the ROD on December 22, 2022.

FOR FURTHER INFORMATION CONTACT: For information about this document call or email Rob McCaskey, Coast Guard District 8 Project Officer; telephone: 314-269-2381, or email: HQS-SMB-CG-BRG@uscg.mil.

SUPPLEMENTARY INFORMATION: On January 8, 2020, the Coast Guard published a notice of intent to prepare an Environmental Impact Statement (EIS) (85 FR 930). On June 7, 2021, we published a notice of availability for a draft EIS seeking public comments and announcing a virtual meeting (86 FR 30323) for the BNSF Railway Bridge across the Missouri River between the cities of Bismarck and Mandan, ND. On June 14, 2021, we published a notice of extension to the public comment period (86 FR 31509), which extended the comment period to July 26, 2021.

The notice of availability solicited substantive and relevant comments related to the draft EIS. On June 30, 2021, the Coast Guard held a virtual public meeting to receive written and oral comments on the draft EIS. Public comments yielded very few substantive changes. The Coast Guard published a notice of availability for the final EIS on October 28, 2022 (87 FR 65216).

The Coast Guard is making the ROD available to the public at: https://www.dco.uscg.mil/Our-Organization/Assistant-Commandant-for-Prevention-Policy-CG-5P/Marine-Transportation-Systems-CG-5PW/Office-of-Bridge-Programs/PROJECTS/.

This notice is issued under authority of NEPA, 42 U.S.C. 4321 et seq., Council on Environmental Quality implementing regulations in 40 CFR parts 1500 through 1508, and 5 U.S.C. 552(a).

Dated: January 24, 2023.
Brian L. Dunn,
Chief, U.S. Coast Guard, Office of Bridge Programs.

[FR Doc. 2023-01736 Filed 1-25-23; 11:15 am]

BILLING CODE 9110-04-P